DEPARTMENT OF TRANSPORTATION

Noise Exposure Map Notice: Receipt of Noise Compatibility Program Amendment and Request for Review

AGENCY: Federal Aviation Administration, DOT.

ACTION: Notice.

SUMMARY: The Federal Aviation Administration (FAA) announces its determination that the noise exposure maps (NEMs) submitted by City of Springfield for the Springfield-Beckley Municipal Airport under the provisions of 49 U.S.C. 47501 et seq. (Aviation Safety and Noise Abatement Act) and 14 CFR Part 150 are in compliance with applicable requirements. The FAA also announces that it is reviewing a proposed notice compatibility program amendment that was submitted for Springfield-Beckley Municipal Airport under 14 CFR Part 150 in conjunction with the NEMs, and that this program will be approved or disapproved on or before December 21, 2007.

DATES: Effective Date: The effective date of the FAA's determination on the NEMs and of the start of its review of the associated noise compatibility program amendment is June 25, 2007. The pubic comment period ends August 23, 2007.

FOR FURTHER INFORMATION CONTACT: Mr. Brad N. Davidson, Federal Aviation Administration, Detroit Airports District Office, 11677 South Wayne Road, Suite 107, Romulus, Michigan, phone number (734) 229-2900. Comments on the proposed notice compatibility program amendment should also be submitted to the above office.

SUPPLEMENTARY INFORMATION: This notice announces that the FAA finds that the NEMs submitted for Springfield-Beckley Municipal Airport are in compliance with applicable requirements of 14 CFR Part 150, effective June 25, 2007. Further, FAA is reviewing a proposed notice compatibility program update for that airport which will approved or disapproved on or before December 21, 2007. This notice also announces the availability of this program for public review and comment.

Under 49 U.S.C., 47503 (the Aviation Safety and Noise Abatement Act, hereinafter referred to as “The Act”), an airport operator may submit to the FAA NEMs which meet applicable requirements and which depict non-compatible land uses as of the date of submission of such maps, a description of projected aircraft operations, and the ways in which such operations will affect such maps. The Act requires such maps to be developed in consultation with interested and affected parties in the local community, government agencies and persons using the airport.

An airport operator who has submitted NEMs that are found by FAA to be in compliance with the requirements of FAR, 14 CFR Part 150, promulgated pursuant to the Act, may submit a noise compatibility program for FAA approval which sets forth for the measures the operator has taken or proposes to take to reduce existing non-compatible uses and prevent the introduction of additional non-compatible uses.

The City of Springfield submitted to the FAA on January 3, 2007 NEMs, descriptions and other documentation that were produced during the Springfield-Beckley Municipal Airport FAR, 14 CFR Part 150 NEMS Update and Noise Compatibility Program Amendment, November 2006. It was requested that the FAA review this material as the NEMs, as described in § 47503 of the Act, and that the noise mitigation measures, to be implemented jointly by the airport and surrounding communications, be approved as a noise compatibility program under § 47504 of the Act.

The FAA has completed its review of the NEMs and related descriptions submitted by the City of Springfield. The specific documentation determined to constitute the NEMs includes: Existing (2006) NEM and Future (2011) NEM as presented in the NEM Update report dated November 2006. The FAR, 14 CFR Part 150 Noise Compatibility Program Amendment contains the required information for § 47503 and section A150.101 including the following specific references: Current and forecast operations in Section 5.1; fleet mix and nighttime operations in Section 5.1; flight patterns in Exhibits 4.3-1, 4.3-2, 4.3-3, 4.3-4, and 4.3-5; and land use in Section 3.2 and Exhibit 3.2-1. The FAA has determined that these maps for Springfield-Beckley Municipal Airport are in compliance with applicable requirements. This determination is effective on June 25, 2007. FAA's determination on an airport operator's NEMs is limited to a finding that the maps were developed in accordance with the procedures contained in appendix A of FAR, 14 CFR Part 150. Such determination does not constitute approval of the applicant's data, information or plans, or constitute a commitment to approve a noise compatibility program or to fund the implementation of that program.

If questions arise concerning the precise relationship of specific properties to noise exposure contours depicted on a noise exposure map submitted under § 47503 of the Act, it should be noted that the FAA is not involved in any way in determining the relative locations of specific properties with regard to the depicted noise contours, or in interpreting the NEMs to resolve questions concerning, for example, which properties should be covered by the provisions of § 47506 of the Act. These functions are inseparable from the ultimate land use control and planning responsibilities of local government. These local responsibilities are not changed in any way under 14 CFR Part 150 or through FAA's review of NEMs. Therefore, the responsibility for the detailed overlaying of noise exposure contours onto the map depicting properties on the surface rests exclusively with the airport operator that submitted those maps, or with those public agencies and planning agencies with which consultation is required under § 47503 of the Act. The FAA has relied on the certification by the airport operator, under 14 CFR 150.21, that the statutorily required consultation has been accomplished.

The FAA has formally received the noise compatibility program amendment for Springfield-Beckley Municipal Airport, also effective on June 25, 2007. Preliminary review of the submitted material indicates that it conforms to the requirements for the submittal of noise compatibility programs, but that further review will be necessary prior to approval or disapproval of the program amendment. The formal review period, limited by law to a maximum of 180 days, will be completed on or before December 21, 2007.

The FAA's detailed evaluation will be conducted under the provisions of 14 CFR 150.33. The primary considerations in the evaluation process are whether the proposed amendment measures may reduce the level of aviation safety, create an undue burden on interstate or foreign commerce, or be reasonably consistent with obtaining the goal of reducing existing non-compatible land uses and preventing the introduction of additional non-compatible land uses.

Interested persons are invited to comment on the proposed program with specific reference to these factors. All comments, other than those properly addressed to local land use authorities, will be considered by the FAA to the extent practicable. Copies of the NEMs, the FAA's evaluation of the maps, and the proposed noise compatibility program amendments are available for examination at the following locations:

Federal Aviation Administration Detroit Airports District Office, 11677 South Wayne Road, Suite 107, Romulus, Michigan 48174.

City of Springfield, Office of the City Manager, 76 E. High Street, Springfield, Ohio 45502.

Questions may be directed to the individual named above under the heading, FOR FURTHER INFORMATION CONTACT.

Issued in Romulus, Michigan: June 25, 2007.
Jack Delaney,
Acting Manager, Detroit Airports District Office, Great Lakes Region.

[FR Doc. 07-3884 Filed 8-8-07; 8:45 am]

BILLING CODE 4910-13-M